DEPARTMENT OF THE INTERIOR

Bureau of Land Management

[AZ-910-0777-26-241A]

Notice of Public Meeting, Arizona Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Arizona Resource Advisory Council (RAC), will meet as indicated below.

DATES: The meeting will be held October 3, 2002 at the BLM National Training Center, 9828 North 31st Avenue in Phoenix, Arizona, beginning at 8 a.m. The public comment period will begin at approximately 11:30 a.m., and the meeting will adjourn at approximately 1 p.m.

SUPPLEMENTARY INFORMATION: The 15-member Council advises the Secretary of the Interior, through the Bureau of Land Management, on a variety of planning and management issues associated with public land management in Arizona. At this meeting, topics to be discuss include: review of the August 1, 2002 meeting minutes; BLM State Director's Update on Statewide Issues; Presentations on Land Tenure Strategy and Land & Water Conservation Fund Acquisitions, and Noxious Weeds, Planning Updates; Update Proposed Field Office Rangeland Resource Teams; RAC Questions on Written Reports from BLM Field Office Managers; Reports by the Standards and Guidelines, Recreation and Public Relations, Wild Horse and Burro, and Planning Working Groups; Reports from RAC members; and Discussion of future meetings.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Deborah Stevens, Bureau of Land Management, Arizona State Office, 222 North Central Avenue, Phoenix, AZ, Telephone (602) 417-9215.

Dated: August 27, 2002.
Carl Rountree,
Arizona Associate State Director.

[FR Doc. 02-22310 Filed 8-30-02; 8:45 am]

BILLING CODE 4310-32-P